DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, e-mail paperwork@hrsa.gov or call the HRSA Reports Clearance Office on (301)-443-1129.

The following request has been submitted to the Office of Management and Budget for review under the Paperwork Reduction Act of 1995:

Proposed Project: HRSA/Bureau of Primary Health Care Capital Improvement Program Application Electronic Health Records (EHR) Readiness Checklist (OMB No. 0915-0325)—Extension

The American Recovery and Reinvestment Act (ARRA) provides $1.5 billion in grants to support “construction, renovation and equipment”, and “the acquisition of health information technology systems, for health centers including health center controlled networks receiving operating grants under section 330” of the Public Health Service (PHS) Act, as amended (42 U.S.C. 254b). HRSA is requesting extension of the approval of the Electronic Health Records (EHR) Readiness Checklist portion of the application where applicants must provide information to demonstrate readiness for electronic health records if they propose to use funds for electronic health record (EHR) related purchases. Of the $1.5 billion, HRSA will award approximately $850 million, through limited competition grants, for one-time Capital Improvement Program (CIP) grant funding in fiscal year (FY) 2009 to support existing section 330 funded health centers. Funding under this opportunity will address pressing capital improvement needs in health centers, such as construction, repair, renovation, and equipment purchases, including health information technology systems. Applicants must provide information using the EHR Readiness Checklist that demonstrates comprehensive planning and readiness for implementing EHRs.

The estimated annual burden is as follows:

Form | Number of respondents | Responses per respondent | Total responses | Hours per response | Total burden hours
EHR Readiness Checklist | 568 | 1 | 568 | .25 | 142
Total | 568 |  | 568 |  | 142

Written comments and recommendations concerning the proposed information collection should be sent within 30 days of this notice to the desk officer for HRSA, either by e-mail to OIRA_submission@omb.eop.gov or by fax to 202-395-6974. Please direct all correspondence to the “attention of the desk officer for HRSA.”

Dated: August 18, 2009.
Alexandra Huttinger,
Director, Division of Policy Review and Coordination.

[FR Doc. E9-20306 Filed 8-21-09; 8:45 am]

BILLING CODE 4165-15-P